DEPARTMENT OF TRANSPORTATION

Maritime Administration

[Docket No. MARAD-2021-0068]

Request for Comments on the Renewal of a Previously Approved Information Collection—Quarterly Readiness of Strategic Seaport Facilities Reporting

AGENCY: Maritime Administration, DOT.

ACTION: Notice and request for comments.

SUMMARY: The Maritime Administration (MARAD) invites public comments on our intention to renew an information collection. The information to be collected will be used by MARAD and Department of Defense (DoD) personnel to evaluate strategic commercial seaport readiness to prepare for contingency military deployment needs and make plans for the use of this capability to meet national emergency requirements. We are required to publish this notice in the Federal Register by the Paperwork Reduction Act of 1995.

DATES: Comments should be submitted on or before July 20, 2021.

ADDRESSES: You may submit comments identified by DOT Docket No. MARAD-2021-0068 through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590-0001 between 9 a.m. and 5 p.m., Monday through Friday, except Federal holidays.

Instructions: All submissions must include the agency name and docket number for this rulemaking.

Note: All comments received will be posted without change to http://www.regulations.gov including any personal information provided.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Electronic Access and Filing

A copy of the notice may be viewed online at www.regulations.gov using the docket number listed above. A copy of this notice will be placed in the docket. Electronic retrieval help and guidelines are available on the website. It is available 24 hours each day, 365 days each year. An electronic copy of this document may also be downloaded from the Office of the Federal Register's website at www.FederalRegister.gov and the Government Publishing Office's website at www.GovInfo.gov.

FOR FURTHER INFORMATION CONTACT: Matthew Butram, Maritime Administration, at matthew.butram@dot.gov or at 202-366-1976. You may send mail to Matthew Butram, Office of Sealift Support, Room W25-218, Mail Stop 1, Maritime Administration, U.S. Department of Transportation, 1200 New Jersey Avenue SE, Washington, DC 20590.

SUPPLEMENTARY INFORMATION: Title: Quarterly Readiness of Strategic Seaport Facilities Reporting.

OMB Control Number: 2133-0548.

Type of Request: Renewal of a previously approved information collection.

Abstract: Pursuant to E.O. 12656 and 49 CFR 1.81(10), 49 CFR part 33; the Maritime Administration (MARAD) issues, for emergency planning and preparedness purposes, a Port Readiness Plan (PRP) to each strategic commercial seaport (port) designated by the Commander, Military Surface Deployment and Distribution Command (SDDC). The PRP identifies specific facilities that DoD may need to support the deployment of Armed Forced of the United States or other emergency needs to promote the national defense. The collection of quarterly information is necessary to validate the ports' ability to provide PRP-delineated facilities to the DOD within the PRP-delineated timeline.

Respondents: Strategic Commercial Seaports who have been designated by the Commander, SDDC and who have been issued a PRP by MARAD.

Affected Public: Strategic Commercial Seaports.

Estimated Number of Respondents: 17.

Estimated Number of Responses: 4.

Estimated Hours per Response: 1.

Annual Estimated Total Annual Burden Hours: 68.

Frequency of Response: Quarterly.

(Authority: The Paperwork Reduction Act of 1995; 44 U.S.C. Chapter 35, as amended; and 49 CFR 1.93.)

* * * * *

By Order of the Acting Maritime Administrator.
Dated: May 17, 2021.
T. Mitchell Hudson, Jr.,
Secretary, Maritime Administration.

[FR Doc. 2021-10693 Filed 5-20-21; 8:45 am]

BILLING CODE 4910-81-P